DEPARTMENT OF DEFENSE

Office of the Secretary

Privacy Act of 1974; System of Records

AGENCY: Defense Intelligence Agency, DoD.

ACTION: Notice to alter a system of records.

SUMMARY: The Defense Intelligence Agency is proposing to alter a system to its existing inventory of records systems subject to the Privacy Act of 1974, (5 U.S.C. 552a), as amended.

DATES: This proposed action will be effective without further notice on September 9, 2011 unless comments are received that would result in a contrary determination.

ADDRESSES: You may submit comments, identified by docket number and/Regulatory Information Number (RIN) and title, by any of the following methods:

* Federal Rulemaking Portal: http://www.regulations.gov. Follow the instructions for submitting comments.

* Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Theresa Lowery at (202) 231-1193, Defense Intelligence Agency, DAN 1-C, 600 McDill Blvd. Washington, DC 20340-0001.

SUPPLEMENTARY INFORMATION: The Defense Intelligence Agency system of records notices subject to the Privacy Act of 1974, (5 U.S.C. 552a), as amended, have been published in the Federal Register and are available from the FOR FURTHER INFORMATION CONTACT address above.

The proposed system report, as required by 5 U.S.C. 552a of the Privacy Act of 1974, as amended, was submitted on January 28, 2011, to the House Committee on Oversight and Government Reform, the Senate Committee on Homeland Security and Governmental Affairs, and the the Office of Management and Budget (OMB) pursuant to paragraph 4c of Appendix I to OMB Circular No. A-130, “Federal Agency Responsibilities for Maintaining Records About Individuals, dated February 8, 1996 (February 20, 1996, 61 FR 6427).”

Dated: July 8, 2011.
Patricia Toppings
OSD Federal Register Liaison Officer, Department of Defense.

LDIA 0900

System name:

Accounts Receivable, Indebtedness and Claims (June 5, 2006, 71 FR 32316).

Changes:

* * * * *

Categories of individuals covered by the system:

Delete entry and replace with “Current and former Defense Intelligence Agency civilian and contract employees, military assignees and other individuals regarding payments, indebtedness and claims to the Defense Intelligence Agency.”

Categories of records in the system:

Delete entry and replace with “Name, Social Security Number (SSN), current address and telephone number, place and date of birth; financial records such as payments, indebtedness, claims, bills, checks, statements of loss or damages, receipts, investigative and court records, financial statements, credit reports, financial statements; time and attendance records and leave and earnings statements.”

Authority for maintenance of the system:

Delete entry and replace with “5 U.S.C. 5512, Withholding Pay and Indebtedness; 5 U.S.C. 5513, Withholding Pay-Credit disallowed or charge raised for payment; 5 U.S.C. 5514, Installment Deduction For Indebtedness to the U.S.; 5 U.S.C. 5584, Claims for Overpayment of Pay, Allowances and of Travel, Transportation and Relocation Expenses and Allowances; 5 U.S.C. 5705, Advancements and Deductions; 10 U.S.C. 2274, Space Surveillance Network; 31 U.S.C. 3322, Disbursing Official; 31 U.S.C. 3527, General Authority to Issue Checks; 31 U.S.C. 3702, Authority to Settle Claims; 31 U.S.C. 3711, Collection and Compromise; 31 U.S.C. 3716, Administrative Offset; 31 U.S.C. 3717, Interest and Penalty on Claims; 31 U.S.C. 3718, Contracts for Collection Services; 40 U.S.C. 705, Handling of Proceeds from Disposal; and E.O. 9397 (SSN), as amended.”

Purpose(s):

Delete entry and replace with “The system will manage records used in cases regarding claims, payments and indebtedness associated with the Defense Intelligence Agency. Information is used to comply with regulatory requirements and to facilitate collections and/or payments.”

Routine uses of records maintained in the system, including categories of users and the purposes of such uses:

Delete entry and replace with “In addition to those disclosures generally permitted under 5 U.S.C. 552a(b) of the Privacy Act of 1974, these records contained therein may specifically be disclosed outside the DoD as a routine use pursuant to 5 U.S.C. 552a(b)(3) as follows:

The DoD ‘Blanket Routine Uses’ set forth at the beginning of the DIA's compilation of systems of records notices apply to this system.”

Policies and practices for storing, retrieving, accessing, retaining, and disposing of records in the system:

Storage:

Delete entry and replace with “Paper records and electronic storage media.”

Retrievability:

Delete entry and replace with “Last name and Social Security Number (SSN).”

Safeguards:

Delete entry and replace with “Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access are limited to persons responsible for servicing and authorized to use the system.”

Retention and disposal:

Delete entry and replace with “Temporary; Cut off each Fiscal Year (FY). Hold 1 year in current files area and transfer to Washington National Records Center, destroy 6 years and 3 months after period covered by account. Electronic Records are deleted from the database, paper records are destroyed by shredding or burning.”

System manager(s) and address:

Delete entry and replace with “Chief, Financial Policy, Financial Operations and Managerial Accounting Branch, Defense Intelligence Agency, 600 MacDill Blvd., Washington, DC 20340-5100.”

Notification procedure:

Delete entry and replace with “Individuals seeking to determine whether information about themselves is contained in this system of records should address written inquiries to the DIA Freedom of Information Office (DAN-1A), Defense Intelligence Agency, 200 MacDill Blvd., Washington, DC 20340-5100.

Request should contain the individual's full name, current address, and telephone number.”

Record access procedures:

Delete entry and replace with “Individuals seeking access to information about themselves contained in this system of records, should address written inquiries to the DIA Freedom of Information Office (DAN-1A), 200 MacDill Blvd., Washington, DC 20340-5100.

Request should contain the individual's full name, current address, and telephone number.”

Contesting record procedures:

Delete entry and replace with “DIA's rules for accessing records, for contesting contents and appealing initial agency determinations are published in DIA Instruction 5400.001 “Defense Intelligence Agency Privacy Program”; or may be obtained from the system manager.”

Record source categories:

Delete entry and replace with “Individuals; DoD and other Federal, state and local financial records systems; financial, educational and medical institutions; and open source information, such as property tax records.”

Exemptions claimed for the system:

Delete entry and replace with “During the course of Accounts Receivable, Indebtedness and Claims actions, exempt materials from other systems of records may in turn become part of the case records in this system. To the extent that copies of exempt records from those `other' systems of records are entered into this correspondence case record, the Defense Intelligence Agency hereby claims the same exemptions for the records from those `other' systems that are entered into this system, as claimed for the original primary systems of records which they are a part.

Records are only exempt from pertinent provisions of 5 U.S.C. 552a to the extent such provisions have been identified and an exemption claimed for the original record and the purposes underlying the exemption for the original record still pertain to the record which is now contained in this system of records. In general, the exemptions were claimed in order to protect properly classified information relating to national defense and foreign policy, to avoid interference during the conduct of criminal, civil, or administrative actions or investigations, to ensure protective services provided the President and others are not compromised, to protect the identity of confidential sources incident to Federal employment, military service, contract, and security clearance determinations, to preserve the confidentiality and integrity of Federal testing materials, and to safeguard evaluation materials used for military promotions when furnished by a confidential source. The exemption rule for the original records will identify the specific reasons why the records are exempt from specific provisions of 5 U.S.C. 552a.

An exemption rule for this system has been promulgated in accordance with the requirements of 5 U.S.C 553(b)(1), (2), and (3), (c) and (e) and published in 32 CFR part 319.”

* * * * *

LDIA 0900

System name:

Accounts Receivable, Indebtedness and Claims.

System location:

Defense Intelligence Agency, Washington, DC 20340-5100.

Categories of individuals covered by the system:

Current and former Defense Intelligence Agency civilian and contract employees, military assignees and other individuals regarding payments, indebtedness and claims to the Defense Intelligence Agency.

Categories of records in the system:

Name, Social Security Number (SSN), current address and telephone number, place and date of birth; financial records such as payments, indebtedness, claims, bills, checks, statements of loss or damages, receipts, investigative and court records, financial statements, credit reports, financial statements; time and attendance records and leave and earnings statements.

Authority for maintenance of the system:

5 U.S.C. 5512, Withholding Pay and Indebtedness; 5 U.S.C. 5513, Withholding Pay-Credit disallowed or charge raised for payment; 5 U.S.C. 5514, Installment Deduction For Indebtedness to the U.S.; 5 U.S.C. 5584, Claims for Overpayment of Pay, Allowances and of Travel, Transportation and Relocation Expenses and Allowances; 5 U.S.C. 5705, Advancements and Deductions; 10 U.S.C. 2274, Space Surveillance Network; 31 U.S.C. 3322, Disbursing Official; 31 U.S.C. 3527, General Authority to Issue Checks; 31 U.S.C. 3702, Authority to Settle Claims; 31 U.S.C. 3711, Collection and Compromise; 31 U.S.C. 3716, Administrative Offset; 31 U.S.C. 3717, Interest and Penalty on Claims; 31 U.S.C. 3718, Contracts for Collection Services; 40 U.S.C. 705, Handling of Proceeds from Disposal; and E.O. 9397 (SSN), as amended.

Purpose(s):

The system will manage records used in cases regarding claims, payments and indebtedness associated with the Defense Intelligence Agency. Information is used to comply with regulatory requirements and to facilitate collections and/or payments.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD ‘Blanket Routine Uses’ set forth at the beginning of the DIA's compilation of systems of records notices apply to this system.

Policies and practices for storing, retrieving, accessing, retaining, and disposing of records in the system:

Storage:

Paper records and electronic storage media.

Retrievability:

Last name and Social Security Number (SSN).

Safeguards:

Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access are limited to persons responsible for servicing and authorized to use the system.

Retention and disposal:

Temporary; Cut off each Fiscal Year (FY). Hold 1 year in current files area and transfer to the Washington National Records Center, destroy 6 years and 3 months after period covered by account. Electronic Records are deleted from the database, paper records are destroyed by shredding or burning.

System manager(s) and address:

Chief, Financial Policy, Financial Operations, and Managerial Accounting Branch, Defense Intelligence Agency, 600 MacDill Blvd., Washington, DC 20340-5100.

Notification procedure:

Individuals seeking to determine whether information about themselves is contained in this system of records should address written inquiries to the DIA Freedom of Information Office (DAN-1A), Defense Intelligence Agency, 200 MacDill Blvd., Washington, DC 20340-5100.

Request should contain the individual's full name, current address, and telephone number.

Record access procedures:

Individuals seeking access to information about themselves, contained in this system of records, should address written inquiries to the DIA Freedom of Information Office (DAN-1A), 200 MacDill Blvd., Washington, DC 20340-5100.

Request should contain the individual's full name, current address, and telephone number.

Contesting record procedures:

DIA's rules for accessing records, for contesting contents and appealing initial agency determinations are published in DIA Instruction 5400.001 “Defense Intelligence Agency Privacy Program”; or may be obtained from the system manager.

Record source categories:

Individuals; DoD and other Federal, state and local financial records systems; financial, educational and medical institutions; and open source information, such as property tax records.

Exemptions claimed for the system:

During the course of Accounts Receivable, Indebtedness and Claims actions, exempt materials from other systems of records may in turn become part of the case records in this system. To the extent that copies of exempt records from those `other' systems of records are entered into this correspondence case record, the Defense Intelligence Agency hereby claims the same exemptions for the records from those `other' systems that are entered into this system, as claimed for the original primary systems of records which they are a part.

Records are only exempt from pertinent provisions of 5 U.S.C. 552a to the extent such provisions have been identified and an exemption claimed for the original record and the purposes underlying the exemption for the original record still pertain to the record which is now contained in this system of records. In general, the exemptions were claimed in order to protect properly classified information relating to national defense and foreign policy, to avoid interference during the conduct of criminal, civil, or administrative actions or investigations, to ensure protective services provided the President and others are not compromised, to protect the identity of confidential sources incident to Federal employment, military service, contract, and security clearance determinations, to preserve the confidentiality and integrity of Federal testing materials, and to safeguard evaluation materials used for military promotions when furnished by a confidential source. The exemption rule for the original records will identify the specific reasons why the records are exempt from specific provisions of 5 U.S.C. 552a.

An exemption rule for this system has been promulgated in accordance with the requirements of 5 U.S.C 553(b)(1), (2), and (3), (c) and (e) and published in 32 CFR part 319.

[FR Doc. 2011-20237 Filed 8-9-11; 8:45 am]

BILLING CODE 5001-06-P